DEPARTMENT OF TRANSPORTATION

ITS Joint Program Office, Intelligent Transportation Systems Program Advisory Committee; Notice of Meeting

AGENCY: Research and Innovative Technology Administration, U.S. Department of Transportation.

ACTION: Notice.

This notice announces, pursuant to Section 10(a)(2) of the Federal Advisory Committee Act (FACA) (Pub. L. 72-363; 5 U.S.C. app. 2), a meeting of the Intelligent Transportation Systems (ITS) Program Advisory Committee (ITSPAC). The meeting will be held on April 6, 2009, 2 p.m. to 4 p.m. The meeting will take place at the U.S. Department of Transportation (U.S. DOT), 1200 New Jersey Avenue, SE., Washington DC, in conference room #2 of the U.S DOT Conference Center on the lobby level of the West Building.

The ITSPAC, established under Section 5305 of Public Law 109-59, Safe, Accountable, Flexible, Efficient Transportation Equity Act: A Legacy for Users, August 10, 2005, and chartered on February 7, 2008, was created to advise the Secretary of Transportation on all matters relating to the study, development and implementation of intelligent transportation systems. Through its sponsor, the ITS Joint Program Office, the ITSPAC makes recommendations to the Secretary regarding ITS Program needs, objectives, plans, approaches, contents, and progress.

The following is a summary of the meeting's tentative agenda: (1) Update on new Administration transition issues and news; (2) Update on American Recovery and Reinvestment Act issues and news; (3) Report on IntelliDrive℠ Program draft principles; (4) Discussion of ITSPAC input on transportation legislation reauthorization; (5) Discussion of ITSPAC input on the Committee's proposed new ITS Program goal; (6) Update on ITS Program Strategic Plan status; (7) Update on Intelligent Transportation Society of America 2009 Annual Meeting activities; (8) Update on U.S. DOT ITS Program governance processes and status; and (9) Discussion of location, timing, and topics for next ITSPAC meeting.

Since access to the U.S. DOT building is controlled, all persons who plan to attend the meeting must notify Mr. Stephen Glasscock, the Committee Designated Federal Official, at (202) 366-9536 not later than April 1, 2009. Individuals attending the meeting must report for admission at the 1200 New Jersey Avenue entrance of the U.S. DOT building. Attendance is open to the public, but limited space will be available on a first come, first served basis. With the approval of Ms. Shelley Row, Director of the ITS Joint Program Office, members of the public may present oral statements at the meeting. Non-committee members wishing to present oral statements or obtain information should contact Mr. Glasscock.

Questions about the agenda or written comments may be submitted by U.S. Mail to: U.S. Department of Transportation, Research and Innovative Technology Administration, ITS Joint Program Office, Attention: Stephen Glasscock, 1200 New Jersey Avenue, SE., HOIT, Washington, DC 20590 or faxed to (202) 493-2027. The ITS Joint Program Office requests that written comments be submitted prior to the meeting.

Persons with a disability requiring special services, such as an interpreter for the hearing impaired, should contact Mr. Glasscock at least seven calendar days prior to the meeting.

Notice of this meeting is provided in accordance with the FACA and the General Services

Administration regulations (41 CFR part 102-3) covering management of Federal advisory committees.

Issued in Washington, DC, on the 6th day of March, 2009.
John Augustine,
Managing Director, ITS Joint Program Office.

[FR Doc. E9-5360 Filed 3-11-09; 8:45 am]

BILLING CODE 4910-HY-P